DEPARTMENT OF LABOR

Employment and Training Administration

[TA-W-64,208]

Anchor Glass Container Corporation, Zanesville Mould Division, Zanesville, OH; Notice of Negative Determination Regarding Application for Reconsideration

By application dated December 29, 2008, United Steelworkers, Local 121 T requested administrative reconsideration of the Department's negative determination regarding eligibility to apply for Trade Adjustment Assistance (TAA) and Alternative Trade Adjustment Assistance (ATAA), applicable to workers and former workers of the subject firm. The denial notice was signed on November 21, 2008 and published in the Federal Register on December 10, 2008 (73 FR 75136).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation that resulted in a negative determination was based on the finding that imports of moulds and related glass container equipment did not contribute importantly to worker separations at the subject facility and there was no shift of production to a foreign country. The subject firm did not import moulds and related glass container equipment during the relevant period. The “contributed importantly” test is generally demonstrated through a survey of the workers' firm's declining domestic customers. In this case the survey was not conducted because all moulds and related glass container equipment was used internally in the products of glassware. The subject firm did not have external customers in the relevant period and did not import moulds and related glass container equipment.

The petitioner alleged that subject firm's competitors import mould equipment, thus having an advantage over the subject firm in locating potential customers.

The impact of competitors on the domestic firms is revealed in an investigation through customer surveys. In the case at hand, in the absence of the external customers, the Department solicited information from the internal customers of the subject firm to determine if customers purchased imported moulds and related glass container equipment. The information was intended to determine if competitor imports contributed importantly to layoffs at the subject firm. The investigation revealed no imports of moulds and related glass container equipment during the relevant period. The subject firm did not import moulds and related glass container equipment nor was there a shift in production from subject firm abroad during the relevant period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 9th day of January 2009.
Elliott S. Kushner,
Certifying Officer, Division of Trade Adjustment Assistance.

[FR Doc. E9-1491 Filed 1-23-09; 8:45 am]

BILLING CODE 4510-FN-P